DEPARTMENT OF THE INTERIOR

National Park Service

[NPS-WASO-NAGPRA-NPS0036058; PPWOCRADN0-PCU00RP14.R50000]

Notice of Inventory Completion: U.S. Department of the Interior, Fish and Wildlife Service, Stillwater National Wildlife Refuge, Fallon, NV

AGENCY: National Park Service, Interior.

ACTION: Notice.

SUMMARY: In accordance with the Native American Graves Protection and Repatriation Act (NAGPRA), the U.S. Department of Interior, Fish and Wildlife Service, Stillwater National Wildlife Refuge has completed an inventory of human remains and associated funerary objects and has determined that there is a cultural affiliation between the human remains and associated funerary objects and Indian Tribes or Native Hawaiian organizations in this notice. The human remains and associated funerary objects were removed from Churchill County, NV.

DATES: Repatriation of the human remains and associated funerary objects in this notice may occur on or after July 24, 2023.

ADDRESSES: Carl Lunderstadt, Refuge Manager, U.S. Fish and Wildlife Service, Stillwater National Wildlife Refuge Complex, 1020 New River Parkway, Suite 305, Fallon, NV 89406, telephone (775) 423-5128, email carl_lunderstadt@fws.gov.

SUPPLEMENTARY INFORMATION: This notice is published as part of the National Park Service's administrative responsibilities under NAGPRA. The determinations in this notice are the sole responsibility of the Stillwater National Wildlife Refuge. The National Park Service is not responsible for the determinations in this notice. Additional information on the determinations in this notice, including the results of consultation, can be found in the inventory or related records held by the Stillwater National Wildlife Refuge.

Description

A detailed assessment of the human remains was made by the U.S. Fish and Wildlife Service (FWS) and the Nevada State Museum, Carson City, professional staff in consultation with representatives of the Paiute-Shoshone Tribe of the Fallon Reservation and Colony, Nevada.

Between April 1985 and September 1990, the United States Department of Interior (DOI), Fish and Wildlife Service (FWS), removed 141 individuals and 1,325 funerary objects that had eroded from 53 archeological sites within Stillwater National Wildlife Refuge (NWR), Churchill County, NV. The removal of human remains was conducted by archeologists from the Nevada State Museum, University of Louisville, and Stillwater NWR under permit, contract, or authority of the U.S. Fish and Wildlife Service. The human remains were removed and transferred to the Nevada State Museum, and then interred in a vault on Stillwater NWR under the authority of the 1987 Memorandum of Understanding on Human Remains among the U.S. Fish and Wildlife Service, Nevada State Historic Preservation Office, and the Paiute-Shoshone Tribe of the Fallon Reservation and Colony, Nevada. The following paragraphs present a site-by-site description of the human remains and associated funerary objects. The archeological sites and human remains listed below date between 3000 and 300 years BP.

Between 1985 and 1987, human remains representing, at minimum, five individuals were removed from 26CH910 (L-20) in Stillwater Marsh at Stillwater NWR, Churchill County, NV. The 266 associated funerary objects include 262 faunal elements, two bone tools, one flaked stone tool, and one shell.

Between 1985 and 1987, human remains representing, at minimum, 12 individuals were removed from 26CH1043 (L-1) in Stillwater Marsh at Stillwater NWR, Churchill County, NV. The 139 associated funerary objects include 97 flaked stone artifacts, 30 faunal elements, six worked stones, two ollivella shell bead fragments, two shell fragments, one projectile point, and one plant fragment.

Between 1985 and 1987, human remains representing, at minimum, four individuals were removed from 26CH1044 (L-2) in Stillwater Marsh at Stillwater NWR, Churchill County, NV. The 176 associated funerary objects include 171 faunal elements, three flaked stone artifacts, and two stones.

Between 1985 and 1987, human remains representing, at minimum, two individuals were removed from 26CH1045 (L-3) in Stillwater Marsh at Stillwater NWR, Churchill County, NV. The two associated funerary objects include one flaked stone tool and one piece of burned clay.

Between 1985 and 1987, human remains representing, at minimum, seven individuals were removed from 26CH1046 (L-4) in Stillwater Marsh at Stillwater NWR, Churchill County, NV. The 103 associated funerary objects include 65 faunal elements, 12 shell fragments, 10 flaked stone artifacts, nine soil samples, four bone tools, and three plant fragments.

Between 1985 and 1987, human remains representing, at minimum, one individual were removed from 26CH1047 (L-5) in Stillwater Marsh at Stillwater NWR, Churchill County, NV. The 29 associated funerary objects are 29 flaked stone artifacts.

Between 1985 and 1987, human remains representing, at minimum, two individuals were removed from 26CH1048 (L-6) in Stillwater Marsh at Stillwater NWR, Churchill County, NV. The 18 associated funerary objects include 16 flaked stone artifacts, one shell fragment, and one stone.

Between 1985 and 1987, human remains representing, at minimum, two individuals were removed from 26CH1049 (L-7) in Stillwater Marsh at Stillwater NWR, Churchill County, NV. The six associated funerary objects include three faunal elements, two flaked stone tools, and one bone tool.

Between 1985 and 1987, human remains representing, at minimum, three individuals were removed from 26CH1050 (L-8) in Stillwater Marsh at Stillwater NWR, Churchill County, NV. The 59 associated funerary objects include 21 flaked stone artifacts, five bone tools, six shells, two faunal elements, and 25 other stones.

Between 1985 and 1987, human remains representing, at minimum, four individuals were removed from 26CH1051 (L-9) in Stillwater Marsh at Stillwater NWR, Churchill County, NV. The 27 associated funerary objects include 11 stone artifacts, eight shells, four faunal elements, three rocks, and one bone tool.

Between 1985 and 1987, human remains representing, at minimum, one individual were removed from 26CH1052 (L-10) in Stillwater Marsh at Stillwater NWR, Churchill County, NV. The two associated funerary objects are two stone artifacts.

Between 1985 and 1987, human remains representing, at minimum, one individual were removed from 26CH1053 (L-11) in Stillwater Marsh at Stillwater NWR, Churchill County, NV. No associated funerary objects are present.

Between 1985 and 1987, human remains representing, at minimum, one individual were removed from 26CH1054 (L-12) in Stillwater Marsh at Stillwater NWR, Churchill County, NV. The 12 associated funerary objects are 12 faunal elements.

Between 1985 and 1987, human remains representing, at minimum, three individuals were removed from 26CH1055 (L-13) in Stillwater Marsh at Stillwater NWR, Churchill County, NV. The 54 associated funerary objects include 50 faunal elements, two bone tools, and two shells.

Between 1985 and 1987, human remains representing, at minimum, one individual were removed from 26CH1056 (L-14) in Stillwater Marsh at Stillwater NWR, Churchill County, NV. The five associated funerary objects include four stone artifacts and one bone tool.

Between 1985 and 1987, human remains representing, at minimum, two individuals were removed from 26CH1057 (L-15) in Stillwater Marsh at Stillwater NWR, Churchill County, NV. No associated funerary objects are present.

Between 1985 and 1987, human remains representing, at minimum, 11 individuals were removed from 26CH1058 (L-16) in Stillwater Marsh at Stillwater NWR, Churchill County, NV. The 16 associated funerary objects include nine faunal elements, three rocks, two flaked stone artifacts, and two shells.

Between 1985 and 1987, human remains representing, at minimum, two individuals were removed from 26CH1060 (L-18) in Stillwater Marsh at Stillwater NWR, Churchill County, NV. No associated funerary objects are present.

Between 1985 and 1987, human remains representing, at minimum, four individuals were removed from 26CH1061 (L-19) in Stillwater Marsh at Stillwater NWR, Churchill County, NV. No associated funerary objects are present.

Between 1985 and 1987, human remains representing, at minimum, three individuals were removed from 26CH1062 (L-21) in Stillwater Marsh at Stillwater NWR, Churchill County, NV. The 50 associated funerary objects include 49 faunal elements and one flaked stone artifact.

Between 1985 and 1987, human remains representing, at minimum, 14 individuals were removed from 26CH1063 (L-22) in Stillwater Marsh at Stillwater NWR, Churchill County, NV. The 15 associated funerary objects include eight faunal elements, four flaked stone artifact, two rocks, and one bone tool.

Between 1985 and 1987, human remains representing, at minimum, eight individuals were removed from 26CH1064 (L-23) in Stillwater Marsh at Stillwater NWR, Churchill County, NV. The two associated funerary objects include one faunal element and one flaked stone artifact.

Between 1985 and 1987, human remains representing, at minimum, two individuals were removed from 26CH1065 (L-24) in Stillwater Marsh at Stillwater NWR, Churchill County, NV. The 27 associated funerary objects include 15 flaked stone artifacts, six rocks, four faunal elements, and two shells.

Between 1985 and 1987, human remains representing, at minimum, one individual were removed from 26CH1066 (L-25) in Stillwater Marsh at Stillwater NWR, Churchill County, NV. No associated funerary objects are present.

Between 1985 and 1987 four associated funerary objects were removed from 26CH1067 (L-26) in Stillwater Marsh at Stillwater NWR, Churchill County, NV. The four associated funerary objects are four flake stone artifacts.

Between 1985 and 1987, human remains representing, at minimum, four individuals were removed from 26CH1068 (L-27) in Stillwater Marsh at Stillwater NWR, Churchill County, NV. The four associated funerary objects are four flaked stone artifacts.

Between 1985 and 1987, human remains representing, at minimum, one individual were removed from 26CH1069 (L-28) in Stillwater Marsh at Stillwater NWR, Churchill County, NV. The nine associated funerary objects include seven flaked stone artifacts, one faunal element, and one shell.

Between 1985 and 1987, human remains representing, at minimum, four individuals were removed from 26CH1070 (L-29) in Stillwater Marsh at Stillwater NWR, Churchill County, NV. The 46 associated funerary objects include 35 faunal elements, five flaked stone artifacts, four shells, and two rocks.

Between 1985 and 1987, human remains representing, at minimum, one individual were removed from 26CH1071 (L-30) in Stillwater Marsh at Stillwater NWR, Churchill County, NV. No associated funerary objects are present.

Between 1985 and 1987, human remains representing, at minimum, one individual were removed from 26CH1158 (L-51) in Stillwater Marsh at Stillwater NWR, Churchill County, NV. The 11 associated funerary objects include five faunal elements and six flaked stone artifacts.

Between 1985 and 1987, human remains representing, at minimum, six individuals were removed from 26CH1159 (L-52) in Stillwater Marsh at Stillwater NWR, Churchill County, NV. The 49 associated funerary objects include 30 faunal elements, 11 shells, four flaked stone artifacts, and four rocks.

Between 1985 and 1987, human remains representing, at minimum, two individuals were removed from 25CH1740 (L53) in Stillwater Marsh at Stillwater NWR, Churchill County, NV. The two associated funerary objects are two faunal elements.

Between 1985 and 1987, human remains representing, at minimum, seven individuals were removed from 26CH1160 (L-54) in Stillwater Marsh at Stillwater NWR, Churchill County, NV. The 36 associated funerary objects include 18 faunal elements, 13 flaked stone artifacts, and five rocks.

Between 1985 and 1987, 10 associated funerary objects were removed from 26CH1161 (L-55) in Stillwater Marsh at Stillwater NWR, Churchill County, NV. The 10 associated funerary objects include seven flaked stone artifacts, two faunal elements, and one shell.

Between 1985 and 1987, 22 associated funerary objects were removed from 26CH1162 (L-56) in Stillwater Marsh at Stillwater NWR, Churchill County, NV. The 22 associated funerary objects include 21 flaked stone artifacts and one rock.

Between 1985 and 1989, human remains representing, at minimum, one individual were removed from 26CH1163 (L-58) in Stillwater Marsh at Stillwater NWR, Churchill County, NV. The one associated funerary object is a shell.

Between 1985 and 1987, human remains representing, at minimum, one individual were removed from 26CH1168 (L-64) in Stillwater Marsh at Stillwater NWR, Churchill County, NV. The one associated funerary object is a flaked stone artifact.

Between 1985 and 1987, human remains representing, at minimum, one individual were removed from 26CH1169 (L-65) in Stillwater Marsh at Stillwater NWR, Churchill County, NV. The two associated funerary objects include one flaked stone artifact and one bone tool.

Between 1985 and 1987, human remains representing, at minimum, one individual were removed from 26CH1173 (L-101) in Stillwater Marsh at Stillwater NWR, Churchill County, NV. The one associated funerary object is a flaked stone tool.

Between 1985 and 1987, human remains representing, at minimum, two individuals were removed from 26CH1223 (CM-87-A) in Stillwater Marsh at Stillwater NWR, Churchill County, NV. The 22 associated funerary objects include 17 plant parts, two rocks, two bone tools, and one flaked stone artifact.

Between 1985 and 1987, human remains representing, at minimum, two individuals were removed from 26CH1249 (L-68) in Stillwater Marsh at Stillwater NWR, Churchill County, NV. The 86 associated funerary objects include 38 faunal elements, 36 flaked stone tools, six rocks, and six shells.

Between 1985 and 1988, human remains representing, at minimum, one individual were removed from 26CH1250 (L-69) in Stillwater Marsh at Stillwater NWR, Churchill County, NV. The five associated funerary objects include four flaked stone artifacts and one rock.

In 1991, human remains representing, at minimum, two individuals were removed from 26CH1661 (391/372-1) in Stillwater Marsh at Stillwater NWR, Churchill County, NV. The one associated funerary object is a flaked stone tool.

Between 1985 and 1987, four associated funerary objects were removed from 26CH1251 (L-74) in Stillwater Marsh at Stillwater NWR, Churchill County, NV. The four associated funerary objects are four flaked stone artifacts.

In 1992, human remains representing, at minimum, one individual were removed from 26CH1890 (CC92-6) in Stillwater Marsh at Stillwater NWR, Churchill County, NV. No associated funerary objects are present.

In 1987, human remains representing, at minimum, one individual were removed from site L-72 in Stillwater Marsh at Stillwater NWR, Churchill County, NV. No associated funerary objects are present.

In 1987, human remains representing, at minimum, one individual were removed from site L-120 in Stillwater Marsh at Stillwater NWR, Churchill County, NV. No associated funerary objects are present.

In 1987, human remains representing, at minimum, one individual were removed from site L-102 in Stillwater Marsh at Stillwater NWR, Churchill County, NV. No associated funerary objects are present.

In 1987, human remains representing, at minimum, one individual were removed from site L-108 in Stillwater Marsh at Stillwater NWR, Churchill County, NV. No associated funerary objects are present.

In 1987, human remains representing, at minimum, one individual were removed from site L-111 in Stillwater Marsh at Stillwater NWR, Churchill County, NV. No associated funerary objects are present.

In 1987, one associated funerary object was removed from site 876 in Stillwater Marsh at Stillwater NWR, Churchill County, NV. The one associated funerary object is a projectile point.

In 1989 human remains representing, at minimum one individual were removed from site CM-43-A in Stillwater Marsh at Stillwater NWR, Churchill County, NV. No associated funerary objects were identified or removed.

In 1989 human remains representing, at minimum one individual weres removed from site CM-90-A in Stillwater Wildlife Management Area, Churchill County, NV. No associated funerary objects were identified or removed.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: oral traditional, folkloric, geographical, anthropological, ethnographic, archeological, biological, and expert opinion.

Determinations

Pursuant to NAGPRA and its implementing regulations, and after consultation with the appropriate Indian Tribes and Native Hawaiian organizations, the Stillwater National Wildlife Refuge has determined that:

• The human remains described in this notice represent the physical remains of 141 individuals of Native American ancestry.

• The 1,325 objects described in this notice are reasonably believed to have been placed with or near individual human remains at the time of death or later as part of the death rite or ceremony.

• There is a relationship of shared group identity that can be reasonably traced between the human remains and associated funerary objects described in this notice and the Paiute-Shoshone Tribe of the Fallon Reservation and Colony, Nevada.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 24, 2023. If competing requests for repatriation are received, the Stillwater National Wildlife Refuge must determine the most appropriate requestor prior to repatriation. Requests for joint repatriation of the human remains and associated funerary objects are considered a single request and not competing requests. The Stillwater National Wildlife Refuge is responsible for sending a copy of this notice to the Indian Tribe identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13296 Filed 6-21-23; 8:45 am]

BILLING CODE 4312-52-P